DEPARTMENT OF HOMELAND SECURITY

Coast Guard

[Docket No. USCG-2011-0129]

TWIC/MTSA Policy Advisory Council; Voluntary Use of TWIC Readers

AGENCY: Coast Guard, DHS.

ACTION: Notice of availability and request for comments.

SUMMARY: The Coast Guard announces the release of and seeks comments on Policy Advisory Council (PAC) Decision 01-11, “Voluntary Use of TWIC Readers.” This PAC Decision provides guidance for using Transportation Security Identification Credential (TWIC) readers as part of a Vessel Security Plan or Facility Security Plan. This PAC Decision is directed at owners and operators of vessels and facilities regulated under the Maritime Transportation Security Act, for the purpose of purchasing and installing TWIC readers and systems.

DATES: Comments and related material must either be submitted to our online docket via http://www.regulations.gov on or before May 16, 2011 or reach the Docket Management Facility by that date.

ADDRESSES: You may submit comments identified by docket number USCG-2011-0129 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

The PAC Decision is available in the docket and can be viewed by going to http://www.regulations.gov, inserting USCG-2011-0129 in the “Keyword” box, and then clicking “Search.” This policy is also available at http://www.homeport.uscg.mil; under the Maritime Security tab, click on the “MTSA/ISPS Policy Advisory Council” link, PAC 01-11.

FOR FURTHER INFORMATION CONTACT: If you have questions on this notice or the policy, call or e-mail LCDR Loan O'Brien (CG-5442), U.S. Coast Guard, telephone 202-372-1133, e-mail Loan.T.O'Brien@uscg.mil. If you have questions on viewing or submitting material to the docket, call Ms. Renee V. Wright, Program Manager, Docket Operations, telephone 202-366-9826.

SUPPLEMENTARY INFORMATION:

Public Participation and Request for Comments

We encourage you to submit comments and related material on the Policy Advisory Council (PAC) Decision 01-11, “Voluntary Use of TWIC Readers.” All comments received will be posted, without change, to http://www.regulations.gov and will include any personal information you have provided.

Submitting comments: If you submit a comment, please include the docket number for this notice (USCG-2011-0129) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov and insert “USCG-2011-0129” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and PAC Decision 01-11: To view the comments and PAC Decision 01-11, go to http://www.regulations.gov, click on the “read comments” box, which will then become highlighted in blue. In the “Keyword” box insert “USCG-2011-0129” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

This PAC Decision 01-11 is also available at http://www.homeport.uscg.mil under the TWIC tab of the “Featured Homeport Links” section, click on the “Policy Advisory Council Decisions for TWIC” link, PAC Decision 01-11.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

In accordance with the Maritime Transportation Security Act of 2002 (MTSA) (Pub. L. 107-295), and the Security and Accountability for Every Port Act of 2006 (Pub. L. 109-347), this PAC Decision facilitates the use of transportation security card readers to leverage the full security benefits of the Transportation Worker Identification Credential (TWIC). The Department of Homeland Security, Coast Guard, and the Transportation Security Administration (TSA) remain in the process of finishing the TWIC reader pilot program. As such, many facility owners and operators who received grant funding have been reluctant to move forward on purchasing TWIC equipment. This Policy Advisory Council (PAC) Decision 01-11, “Voluntary Use of TWIC Readers” provides guidance on how vessel and facility owners and operators can use TWIC readers to meet existing regulatory requirements for effective (1) identity verification, (2) card validity, and (3) card authentication.

Discussion

TWIC regulations state that all persons requiring unescorted access to secure areas of MTSA-covered vessels, facilities and outer continental shelf facilities must possess a TWIC before such access is granted. 33 CFR 101.514. At each entry, the TWIC must be checked for (1) identity verification, (2) card validity, and (3) card authentication. 33 CFR 104.265(c)(1), 105.255(c)(1), or 106.260(c)(1). The current requirement for identity verification is to visually compare the photograph on the TWIC to the person at the access point. The Coast Guard, however, may determine an alternative method of identity verification if the method meets or exceeds the effectiveness of a visual inspection. 33 CFR 101.130.

With this PAC Decision 01-11, the Coast Guard determines that a biometric match using a TWIC reader from the TSA list of readers that have passed the Initial Capability Evaluation Test to confirm that the biometric template stored on the TWIC matches the fingerprint of the individual presenting the TWIC meets or exceeds the effectiveness of a visual identity verification check. An owner or operator of a vessel or facility may also use a TWIC reader to check for card validity by either (1) comparing the card's internal Federal Agency Smart Card Number to the TSA Cancelled Card List, or (2) using a Certificate Revocation List. An owner or operator may also perform card authentication by using a TWIC reader to perform the CHALLENGE/RESPONSE protocol using the Card Authentication Certificate and the card authentication private key on the TWIC.

PAC Decision 01-11 also contains additional guidance. It states that TWIC readers used under this determination should be used in accordance with manufacturer instructions, and operated by trained personnel. Additionally, it points out that TWIC readers allowed pursuant to this interim guidance may no longer be valid after promulgation of a TWIC reader final rule requiring the use of readers. Finally, it reminds vessel and facility owners/operators using PAC Decision 01-11 that they must submit a Vessel Security Plan or Facility Security Plan amendment in accordance with applicable regulations.

Comments on PAC Decision 01-11 may be submitted to the Coast Guard via the docket as described above under ADDRESSES. PAC Decision 01-11 is considered a “significant guidance document” under the terms of the Office of Management and Budget's “Final Bulletin for Agency Good Guidance Practices,” which was published in the Federal Register on January 25, 2007 (72 FR 3432).

Authority: This notice is issued under authority of 5 U.S.C. 552(a) and 33 CFR 101.130.

Dated: March 7, 2011.
Kevin S. Cook,
Rear Admiral, U.S. Coast Guard, Director of Prevention Policy.

[FR Doc. 2011-5893 Filed 3-14-11; 8:45 am]

BILLING CODE 9110-04-P